DEPARTMENT OF TRANSPORTATION

Federal Aviation Administration

14 CFR Part 93

[Docket No. FAA-99-5927]

RIN 2120-AG73

Commercial Air Tour Limitation in the Grand Canyon National Park Special Flight Rules Area; Notice of Availability

AGENCY: Federal Aviation Administration (FAA); DOT.

ACTION: Notice of availability.

SUMMARY: On April 4, 2000, the FAA published a final rule limiting the number of commercial air tours that may be conducted in the Grand Canyon National Park Special Flight Rules Area (SFRA). This rule also contained a requirement that operators in the GCNP SFRA submit quarterly reports indicating the number of commercial air tours conducted during that time frame. The FAA has compiled this data and is making it publicly available by placing it in docket number FAA-99-5927, the docket for the final rule on Commercial Air Tour Limitations. This document also provides instruction on how to access that data both electronically and in person.

ADDRESSES: You may view a copy of the final rule, and the additional data on changes in operations, through the Internet at: http://dms.dot.gov and by searching under docket number “5927”. You may also review the public docket on this regulation in person in the Docket Office between 9 a.m. and 5 p.m., Monday through Friday, except Federal holidays. The Docket Office is on the plaza level of the Nassif Building at the Department of Transportation, 400 7th St., SW., Room 401, Washington, DC 20590.

You may also request a paper copy of the final rule or the additional data from the Office of Rulemaking, Federal Aviation Administration, 800 Independence Ave., SW., Washington, DC 20591, or by calling (202) 267-9685.

FOR FURTHER INFORMATION CONTACT: Gary Davis, Flight Standards Service, (AFS-200) Federal Aviation Administration, Seventh and Maryland Streets, SW., Washington, DC, 20591. Telephone: (202) 267-3747, or by e-mail at Gary.Davis@faa.gov.

Issued in Washington, DC, on March 26, 2003.
Louis C. Cusimano,
Acting Director, Flight Standards Service.

[FR Doc. 03-7804 Filed 3-31-03; 8:45 am]

BILLING CODE 4910-13-P